NATIONAL SCIENCE FOUNDATION

Notice of Permit Modification Received Under the Antarctic Conservation Act of 1978

AGENCY: National Science Foundation.

ACTION: Notice of Permit Modification Request Received and Permit Issued.

SUMMARY: The National Science Foundation (NSF) is required to publish a notice of requests to modify permits issued to conduct activities regulated and permits issued under the Antarctic Conservation Act of 1978. NSF has published regulations under the Antarctic Conservation Act in the Code of Federal Regulations. This is the required notice of a requested permit modification and permit issued.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: The National Science Foundation (NSF), as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection.

1. NSF issued a permit (ACA 2015-010) to Lockheed Martin Corporation on October 31, 2014. The issued permit allows the permit holder to, as the contractor providing operational support for the United States Antarctic Program (USAP), be responsible for waste management activities for the USAP.

A modification to this permit, dated November 7, 2016, allowed a change in permit holder from Lockheed Martin Corporation to Leidos Innovations Group (Leidos), 7400 South Tucson Way, Centennial, CO 80112. Another, recent modification to this permit extended the expiration date from September 30, 2019 to October 31, 2019.

This modification would be to extend the expiration date of the permit from October 31, 2019 to November 8, 2019. The Environmental Officer has reviewed the modification request and has determined that the amendment is not a material change to the permit, and it will have a less than a minor or transitory impact.

Date of Permitted Activities: October 31, 2014-November 8, 2019.

The permit modification was issued on November 1, 2019.

2. On October 23, 2015, the National Science Foundation (NSF) issued a waste management permit to David Rootes, Environmental Manager of Antarctic Logistics and Expeditions, LLC (ALE). Under that permit (ACA #2016-008), ALE was permitted to operate a remote camp at Union Glacier, Antarctica, and provide logistical support services for scientific and other expeditions, film crews, and tourists. These activities include aircraft support, cache positioning, camp and field support, resupply, search and rescue, medevac, medical support and logistic support for some National Operators. The permit expires February 28, 2020. On September 3, 2019, Mr. Rootes provided NSF an update based on activities planned for the 2019-2020 field season. ALE's activities are the same or similar as those detailed in the original permit (and previous modifications) and the estimates for emissions and waste generation are updated based on the planned activities for this season. The Environmental Officer has reviewed the modification request and has determined that the amendment is not a material change to the permit, and it will have a less than a minor or transitory impact.

Date of Permitted Activities: October 23, 2015-February 28, 2020.

The permit modification was issued on November 1, 2019.

3. On November 2, 2017, the National Science Foundation (NSF) issued a waste management permit to Brandon Harvey, Director, Expedition Operations, Polar Latitudes, Inc. Under that permit (ACA #2018-015), Polar Latitudes was permitted to conduct waste management activities associated with coastal camping and operating remotely piloted aircraft systems (RPAS) In the Antarctic Peninsula region. Coastal overnight camping of no more than 30 campers and two expedition staff for a maximum of 10 hours ashore. Camping must be away from vegetated sites and at least 150 meters from wildlife concentrations or lakes, protected areas, historical sites, and scientific stations. The permit holder engages experienced pilots to fly small, battery-operated, remotely controlled quadcopter equipped with cameras to capture aerial footage for commercial and educational uses. The permit expires March 30, 2022.

On September 4, 2018, Polar Latitudes provided NSF an update based on activities planned for the 2018-2019 field season. The activities are the same or similar as those detailed in the original permit. Hayley Shephard now holds the position of Director of Expedition Operations. In addition, coastal camping should no longer occur in close proximity to Almirante Brown/Brown Base. On February 25, 2019, NSF issued a modification to allow waste management activities associated with whale tagging research aboard the MS ISLAND SKY, led by Daniel Zitterbart as part of an expedition within an expedition.

On August 30, 2019, Polar Latitudes provided NSF an update based on activities planned for the 2019-2020 field season (attached). The activities are the same or similar as those detailed in the original permit and previous modifications. On October 14, 2019, Polar Latitudes provided NSF an update (attached) on the support of whale tagging activities this season aboard the MC Hebridean Sky in March 2020.The Environmental Officer has reviewed the modification request and has determined that the amendment is not a material change to the permit, and it will have a less than a minor or transitory impact.

Date of Permitted Activities: November 2, 2017—March 30, 2022.

The permit modification was issued on November 3, 2019.

Erika N. Davis,
Program Specialist, Office of Polar Programs.

[FR Doc. 2019-24283 Filed 11-6-19; 8:45 am]

BILLING CODE 7555-01-P